DEPARTMENT OF THE INTERIOR

Bureau of Land Management

[LLOR932000-L16100000-DF0000-LXSS062H0000; HAG 10-0283]

Notice of Availability of the Record of Decision for Vegetation Treatments Using Herbicides on Bureau of Land Management Lands in Oregon Final Environmental Impact Statement

AGENCY: Bureau of Land Management, Interior.

ACTION: Notice of availability.

SUMMARY: In accordance with the National Environmental Policy Act of 1969, as amended (NEPA), the Bureau of Land Management (BLM) has prepared a Record of Decision (ROD) for Vegetation Treatments Using Herbicides on Bureau of Land Management Lands in Oregon and by this notice is announcing its availability. The ROD selects a slightly modified version of Alternative 4 as described in the Final Environmental Impact Statement (EIS) for Vegetation Treatments Using Herbicides on Bureau of Land Management Lands in Oregon, notice of which was published in the Federal Register on July 30, 2010 (75 FR 44981). The selected alternative increases the number of herbicides available for use on BLM-managed lands in Oregon and increases the number of objectives for which they can be used. The herbicides and uses permitted by the selected alternative fall entirely within those approved for use in 17 western states by the BLM in its September 2007 ROD for the Final Programmatic EIS for Vegetation Treatments Using Herbicides on BLM lands in 17 Western States. The Oregon decision incorporates the standard operating procedures and mitigation measures adopted by the BLM's 2007 17 western states decision and adds additional mitigation and monitoring requirements specific to Oregon.

DATES: There is a 30-day appeal period before the decision can take effect (see ADMINISTRATIVE APPEALS below). Appeals must be postmarked within 30 days of the date of publication of this notice in the Federal Register.

FOR FURTHER INFORMATION CONTACT: Todd Thompson, EIS Project Manager, by telephone at (503) 808-6326, by mail at Bureau of Land Management—OR932, P.O. Box 2965, Portland, Oregon 97208; or by e-mail at orvegtreatments@blm.gov.

Copies of the ROD and the Vegetation Treatments Final EIS upon which it is based are available on the Internet at: http://www.blm.gov/or/plans/vegtreatmentseis/. Printed copies have been sent to libraries and BLM district offices throughout Oregon. Compact Disc (CD) copies have also been sent to affected Federal, State, tribal, and local government agencies; to persons who have asked to be on the project mailing list; and to everyone who submitted comments on the Draft EIS, unless they requested the ROD in a different format or opted off of the distribution list. Requests to receive printed or CD copies of the ROD should be sent to one of the addresses listed above.

SUPPLEMENTARY INFORMATION: The Final EIS for Vegetation Treatments Using Herbicides on BLM Lands in Oregon provides a comprehensive analysis of a proposal to make an additional 13 herbicides available (above the current 4) to BLM districts in Oregon and to expand on the management objectives for which they may be used (beyond just noxious weed control). The selected alternative, a slightly modified Alternative 4, would allow for the use of 17 herbicides east of the Cascades and 14 herbicides west of the Cascades to control noxious and invasive weeds; treat vegetation along roads, rights-of-way, and BLM improvements; and conduct habitat improvement projects for special status species. The Oregon BLM currently uses four herbicides only for the treatment of noxious weeds. A noxious weed is any plant designated by a Federal, State or county government as injurious to public health, agriculture, recreation, wildlife, or property. The list of invasive weeds includes not only noxious weeds but also other non-native, aggressive plants that have the potential to cause significant damage to native ecosystems and/or cause significant economic losses.

In 1984, the BLM was prohibited from using herbicides in Oregon by a U.S. District Court injunction issued in Northwest Coalition for Alternatives to Pesticides, et al. v. Block, et al., (Civ. No. 82-6273-E). Following completion of an EIS examining the use of four herbicides for the treatment of noxious weeds only, the injunction was modified by the court in November 1987, (Civ. No. 82-6272-BU). For the subsequent 23 years, the BLM in Oregon has limited its herbicide use to the four herbicides analyzed and limited the use of those four herbicides to the control and eradication of Federal-, State-, or county-listed noxious weeds. In that time, new herbicides have become available that can be used in smaller doses, are more target-specific, and are lower risk to people and other non-target organisms. In 2007, the BLM Washington Office Rangeland Resources Division completed the Vegetation Treatments Using Herbicides on Bureau of Land Management lands in 17 Western States Programmatic EIS and related Record of Decision (Programmatic EIS), making 18 herbicides available for a full range of vegetation treatments in 17 western states including Oregon. Oregon cannot fully implement that decision, however, until and unless the 1984 District Court injunction is lifted. The Vegetation Treatments Using Herbicides on BLM Lands in Oregon Final EIS, upon which today's decision is based, tiers to the 17 Western States Programmatic EIS, incorporates its standard operating procedures and adopted mitigation measures for the use of herbicides, provides additional detailed analysis regarding the potential for human and environmental risks generated in support of the Programmatic EIS, and addresses the concerns raised by the District Court in its 1984 Order.

A June 2009 stipulated agreement says the 1984 injunction, as modified in 1987, shall cease to be in force and effect regarding BLM applying herbicides to treat invasive species upon the completion of the protest and appeals period following issuance of this ROD. Preparation of the Oregon EIS began with a Notice of Intent to Prepare an Environmental Impact Statement in the Federal Register on June 23, 2008 (73 FR 35408). The scoping period included the mailing of 17,000 postcards to potentially interested persons or groups, statewide radio and newspaper news releases, and 12 public scoping meetings held throughout Oregon. A Draft EIS was released on October 2, 2009 (74 FR 50986). Over 1,000 comment letters received through January 6, 2010, on the Draft EIS and the ideas presented in those comments were used to improve the analysis presented in the Final EIS. Comment responses and resultant changes are documented in the Final EIS, Appendix 10.

The Final EIS addressed all 15.7 million acres of BLM lands in Oregon and all 18 herbicides approved for use by the 2007 ROD for the Programmatic EIS, which are being used in the other 16 western states. The Final EIS analyzed a “no action” and three action alternatives, which were shaped in part by the comments received during 12 public scoping meetings held throughout Oregon in July 2008. A “no herbicides” reference analysis was also included. The alternatives addressed eight “purposes” or issues also identified during scoping.

The Final EIS analysis indicated that by using standard operating procedures identified in applicable BLM manuals and policy direction, along with Programmatic EIS-adopted mitigation measures, human and environmental risk from the use of herbicides is both minimized and reduced from current levels. The analysis indicates the selected alternative will also slow the spread of noxious weeds on BLM lands by approximately 50 percent and result in an estimated 2.2 million fewer infested acres in 15 years than under current program capabilities, will reduce rights-of-way maintenance costs by about $1 million per year, and will make possible an additional 3,700 acres of habitat improvement for federally listed and other special status species each year. The ROD does not authorize any specific herbicide treatment projects. No site-specific projects (i.e. application of herbicides beyond current authorized uses) will proceed until completion of additional, site-specific NEPA analysis and decision-making.

Consultation with the U.S. Fish and Wildlife Service and the National Marine Fisheries Service was conducted to ensure continued applicability of informal consultation and the Biological Opinion issued on the Programmatic EIS by those two agencies respectively. The signing official for the ROD is the BLM Oregon and Washington State Director.

Administrative Appeals: The decision may be appealed to the Interior Board of Land Appeals (IBLA), Office of the Secretary, in accordance with regulations contained in 43 CFR part 4 and Form 1842-1. If you file an appeal, your notice of appeal must be mailed to the Oregon/Washington BLM State Director, P.O. Box 2965, Portland, Oregon 97208-2965, and be postmarked by November 1, 2010. The appellant has the burden of showing the decision appealed is in error.

A copy of the appeal, statement of reasons, and all other supporting documents must also be sent to the Regional Solicitor, Pacific Northwest Region, U.S. Department of the Interior, 805 SW. Broadway #600, Portland, Oregon 97205-3346. If the notice of appeal does not include a statement of reasons for the appeal, it must be sent to the Interior Board of Land Appeals, Office of Hearings and Appeals, 801 North Quincy Street, Arlington, Virginia 22203 within 30 days of filing the notice of appeal (43 CFR 4.412). It is suggested that appeals be sent certified mail, return receipt requested.

Requests for Stay: Should you wish to file a motion for stay pending the outcome of an appeal of this decision, you must show sufficient justification based on the following standards under 43 CFR 4.21:

• The relative harm to the parties if the stay is granted or denied;

• The likelihood of the appellant's success on the merits;

• The likelihood of immediate and irreparable harm if the stay is not granted; and

• Whether or not the public interest favors granting the stay.

As noted above, the motion for stay must be filed in the office of the authorized officer and the Regional Solicitor.

Edward W. Shepard,
State Director, Oregon/Washington.

[FR Doc. 2010-24641 Filed 9-30-10; 8:45 am]

BILLING CODE 4310-33-P